DEPARTMENT OF ENERGY

Federal Energy Regulatory Commission

Combined Notice of Filings #1

Take notice that the Commission received the following exempt wholesale generator filings:

Docket Numbers: EG22-77-000.

Applicants: Seven Cowboy Wind Project, LLC.

Description: Seven Cowboy Wind Project, LLC submits Notice of Self-Certification of Exempt Wholesale Generator Status.

Filed Date: 3/31/22.

Accession Number: 20220331-5424.

Comment Date: 5 p.m. ET 4/21/22.

Docket Numbers: EG22-78-000.

Applicants: Laurel Mountain BESS, LLC.

Description: Laurel Mountain BESS, LLC submits Notice of Self-Certification of Exempt Wholesale Generator Status.

Filed Date: 3/31/22.

Accession Number: 20220331-5432.

Comment Date: 5 p.m. ET 4/21/22.

Docket Numbers: EG22-79-000.

Applicants: Chesapeake Beach BESS LLC.

Description: Chesapeake Beach BESS LLC submits Notice of Self-Certification of Exempt Wholesale Generator Status.

Filed Date: 4/1/22.

Accession Number: 20220401-5241.

Comment Date: 5 p.m. ET 4/22/22.

Docket Numbers: EG22-80-000.

Applicants: Longbow Solar, LLC.

Description: Longbow Solar, LLC submits Notice of Self-Certification of Exempt Wholesale Generator Status.

Filed Date: 4/1/22.

Accession Number: 20220401-5327.

Comment Date: 5 p.m. ET 4/22/22.

Take notice that the Commission received the following electric rate filings:

Docket Numbers: ER22-892-001.

Applicants: Atlantic City Electric Company.

Description: Tariff Amendment: Response to Deficiency Letter to be effective 4/15/2022.

Filed Date: 4/1/22.

Accession Number: 20220401-5000.

Comment Date: 5 p.m. ET 4/6/22.

Docket Numbers: ER22-901-001.

Applicants: Atlantic City Electric Company.

Description: Tariff Amendment: Response to Deficiency Letter to be effective 4/15/2022.

Filed Date: 4/1/22.

Accession Number: 20220401-5001.

Comment Date: 5 p.m. ET 4/6/22.

Docket Numbers: ER21-1488-001.

Applicants: Luna Storage, LLC.

Description: Compliance filing: Luna Storage, LLC Notice of Change in Status to be effective 5/31/2021.

Filed Date: 4/1/22.

Accession Number: 20220401-5235.

Comment Date: 5 p.m. ET 4/22/22.

Docket Numbers: ER21-2498-002.

Applicants: Versant Power.

Description: Compliance filing: Modify 676-I Compliance Filing per FERC's 3-7-2022 Order (ER21-2498-) to be effective 5/1/2022.

Filed Date: 4/1/22.

Accession Number: 20220401-5107.

Comment Date: 5 p.m. ET 4/22/22.

Docket Numbers: ER22-1377-001.

Applicants: Midcontinent Independent System Operator, Inc., American Transmission Company LLC.

Description: Tariff Amendment: Midcontinent Independent System Operator, Inc. submits tariff filing per 35.17(b): 2022-04-01_SA 2801 ATC-City of Sturgeon Bay Substitute 2nd Rev CFA to be effective 5/18/2022.

Filed Date: 4/1/22.

Accession Number: 20220401-5149.

Comment Date: 5 p.m. ET 4/22/22.

Docket Numbers: ER22-1530-000.

Applicants: Public Service Company of Colorado.

Description: § 205(d) Rate Filing: 2022-03-31 Production Depreciation Rates to be effective 4/1/2022.

Filed Date: 3/31/22.

Accession Number: 20220331-5334.

Comment Date: 5 p.m. ET 4/21/22.

Docket Numbers: ER22-1531-000.

Applicants: New England Power Pool Participants Committee.

Description: § 205(d) Rate Filing: April 2022 Membership Filing to be effective 4/1/2022.

Filed Date: 3/31/22.

Accession Number: 20220331-5335.

Comment Date: 5 p.m. ET 4/21/22.

Docket Numbers: ER22-1532-000.

Applicants: Sun Streams, LLC.

Description: § 205(d) Rate Filing: Certificate of Concurrence to Amended and Restated Shared Facilities Agreement to be effective 4/1/2022.

Filed Date: 3/31/22.

Accession Number: 20220331-5354.

Comment Date: 5 p.m. ET 4/21/22.

Docket Numbers: ER22-1533-000.

Applicants: Southwest Power Pool, Inc.

Description: § 205(d) Rate Filing: SPP-MISO JOA Revisions to Section 9.4 Regarding Interconnection Requests to be effective 5/31/2022.

Filed Date: 3/31/22.

Accession Number: 20220331-5364.

Comment Date: 5 p.m. ET 4/21/22.

Docket Numbers: ER22-1534-000.

Applicants: Sun Streams, LLC.

Description: Tariff Amendment: Notice of Cancellation of Rate Schedule to be effective 4/1/2022.

Filed Date: 3/31/22.

Accession Number: 20220331-5369.

Comment Date: 5 p.m. ET 4/21/22.

Docket Numbers: ER22-1535-000.

Applicants: Midcontinent Independent System Operator, Inc.

Description: § 205(d) Rate Filing: 2022-03-31_MISO SPP JOA re: Affected Systems Queue Priority to be effective 5/31/2022.

Filed Date: 3/31/22.

Accession Number: 20220331-5376.

Comment Date: 5 p.m. ET 4/21/22.

Docket Numbers: ER22-1536-000.

Applicants: PJM Interconnection, L.L.C.

Description: § 205(d) Rate Filing: Revised Service Agreement No. 653—NITSA between PJM and Borough of Chambersburg to be effective 4/1/2022.

Filed Date: 3/31/22.

Accession Number: 20220331-5387.

Comment Date: 5 p.m. ET 4/21/22.

Docket Numbers: ER22-1537-000.

Applicants: Public Service Company of New Mexico.

Description: § 205(d) Rate Filing: Annual Real Power Loss Factor Filing for 2022 to be effective 6/1/2022.

Filed Date: 4/1/22.

Accession Number: 20220401-5002.

Comment Date: 5 p.m. ET 4/22/22.

Docket Numbers: ER22-1538-000.

Applicants: American Transmission Systems, Incorporated, PJM Interconnection, L.L.C.

Description: § 205(d) Rate Filing: American Transmission Systems, Incorporated submits tariff filing per 35.13(a)(2)(iii): ATSI submits Revised Interconnection Agreement (IA) SA No. 3994 to be effective 6/1/2022.

Filed Date: 4/1/22.

Accession Number: 20220401-5009.

Comment Date: 5 p.m. ET 4/22/22.

Docket Numbers: ER22-1539-000.

Applicants: NRG Power Marketing LLC.

Description: § 205(d) Rate Filing: Reliability Must-Run Rate Schedule, Electric Rate Schedule FERC No. 3 to be effective 6/1/2022.

Filed Date: 4/1/22.

Accession Number: 20220401-5017.

Comment Date: 5 p.m. ET 4/22/22.

Docket Numbers: ER22-1540-000.

Applicants: NRG Power Marketing LLC.

Description: § 205(d) Rate Filing: Proposed Revisions to Reactive Service Rate Schedule to be effective 6/1/2022.

Filed Date: 4/1/22.

Accession Number: 20220401-5019.

Comment Date: 5 p.m. ET 4/22/22.

Docket Numbers: ER22-1541-000.

Applicants: Southwestern Public Service Company.

Description: § 205(d) Rate Filing: NM Coop From FR to PR to be effective 6/1/2022.

Filed Date: 4/1/22.

Accession Number: 20220401-5024.

Comment Date: 5 p.m. ET 4/22/22.

Docket Numbers: ER22-1542-000.

Applicants: PJM Interconnection, L.L.C.

Description: Tariff Amendment: Notice of Cancellation of SA Nos. 4790 and 4791—Cheoah and Calderwood PTAs to be effective 6/1/2022.

Filed Date: 4/1/22.

Accession Number: 20220401-5125.

Comment Date: 5 p.m. ET 4/22/22.

Docket Numbers: ER22-1543-000.

Applicants: Midcontinent Independent System Operator, Inc.

Description: § 205(d) Rate Filing: 2022-04-01_SA 3503_Termination of ITC-Orion Renewable Resources GIA (J833) to be effective 1/20/2022.

Filed Date: 4/1/22.

Accession Number: 20220401-5135.

Comment Date: 5 p.m. ET 4/22/22.

Docket Numbers: ER22-1544-000.

Applicants: Chesapeake Beach BESS LLC.

Description: Baseline eTariff Filing: Market-Based Rate Application to be effective 6/1/2022.

Filed Date: 4/1/22.

Accession Number: 20220401-5157.

Comment Date: 5 p.m. ET 4/22/22.

Docket Numbers: ER22-1545-000.

Applicants: Midcontinent Independent System Operator, Inc., Montana-Dakota Utilities Co.

Description: § 205(d) Rate Filing: Midcontinent Independent System Operator, Inc. submits tariff filing per 35.13(a)(2)(iii): 2022-04-01_Montana-Dakota Utilities (MDU) Depreciation Rates to be effective 6/1/2022.

Filed Date: 4/1/22.

Accession Number: 20220401-5238.

Comment Date: 5 p.m. ET 4/22/22.

Docket Numbers: ER22-1546-000.

Applicants: Tampa Electric Company.

Description: Compliance filing: Order No. 881_Managing Transmission Line Ratings to be effective 6/1/2022.

Filed Date: 4/1/22.

Accession Number: 20220401-5239.

Comment Date: 5 p.m. ET 4/22/22.

Docket Numbers: ER22-1547-000.

Applicants: RockGen Energy LLC.

Description: Tariff Amendment: Notice of Cancellation of FERC Electric Tariff No. 1 (MBR Tariff) to be effective 4/2/2022.

Filed Date: 4/1/22.

Accession Number: 20220401-5296.

Comment Date: 5 p.m. ET 4/22/22.

Docket Numbers: ER22-1548-000.

Applicants: ISO New England Inc., The Connecticut Light and Power Company.

Description: § 205(d) Rate Filing: ISO New England Inc. submits tariff filing per 35.13(a)(2)(iii): CL&P; Proposed Change to Depreciation Rate in CL&P's Appendix D to Attachment F to be effective 7/1/2022.

Filed Date: 4/1/22.

Accession Number: 20220401-5348.

Comment Date: 5 p.m. ET 4/22/22.

Docket Numbers: ER22-1549-000.

Applicants: Sun Streams PVS, LLC.

Description: § 205(d) Rate Filing: Market-Based Rate Application and Request for Expedited Treatment to be effective 5/16/2022.

Filed Date: 4/1/22.

Accession Number: 20220401-5357.

Comment Date: 5 p.m. ET 4/22/22.

Docket Numbers: ER22-1550-000.

Applicants: Arizona Public Service Company.

Description: § 205(d) Rate Filing: Amendment No. 1 to Service Agreement No. 389 to be effective 6/1/2021.

Filed Date: 4/1/22.

Accession Number: 20220401-5364.

Comment Date: 5 p.m. ET 4/22/22.

Take notice that the Commission received the following electric securities filings:

Docket Numbers: ES22-33-000.

Applicants: Southwest Power Pool, Inc.

Description: Application Under Section 204 of the Federal Power Act for Authorization to Issue Securities of Southwest Power Pool, Inc.

Filed Date: 4/1/22.

Accession Number: 20220401-5300.

Comment Date: 5 p.m. ET 4/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2022.
Debbie-Anne A. Reese,
Deputy Secretary.

[FR Doc. 2022-07480 Filed 4-7-22; 8:45 am]

BILLING CODE 6717-01-P